DEPARTMENT OF THE INTERIOR

Office of the Secretary

Privacy Act of 1974, As Amended; Addition of a New System of Records

AGENCY: Office of the Secretary.

ACTION: Proposed addition of a new Privacy Act system of records.

SUMMARY: In accordance with the Privacy Act of 1974 (5 U.S.C. 552a), the Department of the Interior is issuing public notice of its intent to add a new Department-wide Privacy Act system of records, DOI-02, “Interior Uniform Relocation Assistance Program Records.”

DATES: Comments must be received by November 3, 2008.

ADDRESSES: Any persons interested in commenting on this proposed addition of a new Privacy Act system of records may do so by submitting comments in writing to the Office of the Secretary Acting Privacy Act Officer, Linda Thomas, U.S. Department of the Interior, MS-116 SIB, 1951 Constitution Avenue, NW., Washington, DC 20240, or by e-mail to Linda_Thomas@nbc.gov.

FOR FURTHER INFORMATION CONTACT: Mary Heying, Office of Acquisition and Property Management, by phone at 202-208-4080, by fax at 202-219-4244, by e-mail at Mary_Heying@ios.doi.gov, or by mail at U.S. Department of the Interior, Office of Acquisition and Property Management, MS 2607 MIB, 1849 C Street, NW., Washington, DC 20240.

SUPPLEMENTARY INFORMATION: The Interior Uniform Relocation Assistance Program Records system will contain information from individuals and businesses displaced as a result of Federal real estate acquisition for the purpose of determining the amount of their relocation benefit. The system will contain information about the individual claimant, residential moving costs, replacement housing payments, down payments and incidental expenses for residential relocations; and information about business claimants, nonresidential moving costs, nonresidential direct loss of personal property; and relocation and reestablishment expenses for nonresidential relocations. For residential relocations, the information collected will include the name, social security number, address, and phone number of the claimant, occupancy status, dwelling type, number of rooms, names, gender, relationship and age of all household members, relocated address and date of relocation, replacement housing or rental payments including moving cost, storage costs, and advance payments received, average household monthly income, incidental expenses including legal and closing costs, title search fee, notary fee, recording and surveying fees, transfer taxes, home inspection fee, and computation of relocation benefit. For nonresidential relocations, the information collected will include the name, social security number or tax identification number, address and phone number of the claimant, the type of business, type of ownership, citizenship status, dates of business operation, replacement business address, moving, storage and search expenses, direct loss of personal property as a result of the move or discontinuing the business, reestablishment expenses, and computation of relocation benefit. Collection of data will be by claim for relocation payment application forms submitted by a displaced person or business. This new system of records notice will be effective as proposed at the end of the comment period unless comments are received which would require a contrary determination. The Department will publish a revised notice if changes are made based upon a review of comments received.

Dated: September 19, 2008.
Linda S. Thomas,
Office of the Secretary Acting Privacy Act Officer.

SYSTEM NAME:

Interior Relocation Assistance Program Records, DOII-02.

SYSTEM LOCATION:

Data covered by this system are maintained at the following locations:

(1) Bureau of Land Management, Salem District Office, 1717 Fabry Road, SE., Salem, OR 97306;

(2) Bureau of Reclamation, Finance and Accounting Division, Denver Federal Center, Building 67, 13th Floor, Denver, CO 80225-0007;

(3) National Park Service, Land Resources Division, 1201 Eye Street, NW., Washington, DC 20005; and

(4) U.S. Fish and Wildlife Service, Division of Realty, 4401 N. Fairfax Drive, Suite 622, Arlington, VA 22203.

CATEGORIES OF INDIVIDUALS COVERED BY THE SYSTEM:

The system covers individuals and businesses that are displaced as a result of Federal real estate acquisition.

CATEGORIES OF RECORDS IN THE SYSTEM:

(1) The information collected for residential relocations from Claim for Relocation Payments—Residential, DI-381, includes the name, social security number, address, telephone number, and occupancy status of the claimant; dwelling type; number of rooms; names, gender, relationship and age of all household members; relocated address and date of relocation; replacement housing or rental payments including moving cost, storage costs, and advance payments received; average household monthly income; incidental expenses including legal and closing costs; title search fee; notary fee; recording and surveying fees; transfer taxes; home inspection fee; and computation of relocation benefit.

(2) For nonresidential relocations, the information collected from Claim for Relocation Payments—Nonresidential, DI-382, includes the name, social security number or tax identification number, address, and phone number of the claimant; the type of business; type of ownership; citizenship status; dates of business operation; replacement business address; moving, storage and search expenses; direct loss of personal property as a result of the move or discontinuing the business; reestablishment expenses; and computation of relocation benefit.

The Office of Management and Budget has approved these two forms under information collection 1084-0010, which is discussed at 71 FR 11219, published March 6, 2006.

AUTHORITY FOR MAINTENANCE OF THE SYSTEM:

42 U.S.C. 4601 et seq., the Uniform Relocation Assistance and Real Property Acquisition Policies Act of 1970, as amended.

ROUTINE USES OF RECORDS MAINTAINED IN THE SYSTEM, INCLUDING CATEGORIES OF USERS AND THE PURPOSES OF SUCH USES:

The primary use of the records maintained in this system is to establish the amount of benefits due an individual or business displaced by Federal real estate acquisition.

Disclosures outside the Department of the Interior (DOI) may be made:

(1) To authorized title companies and closing agents for title policies and closings.

(2) To the United States Department of Justice for preliminary and final title opinions and condemnation proceedings.

(3) To any criminal, civil, or regulatory law enforcement authority (whether Federal, state, territorial, local, tribal, or foreign) when a record, either alone or in conjunction with other information, indicates a violation or potential violation of law—criminal, civil, or regulatory in nature, and the disclosure is compatible with the purpose for which the records were compiled.

(4) (a) To any of the following entities or individuals, when the circumstances set forth in paragraph (b) are met:

(i) The U.S. Department of Justice (DOJ);

(ii) A court or an adjudicative or other administrative body;

(iii) A party in litigation before a court or an adjudicative or other administrative body; or

(iv) Any DOI employee acting in his or her individual capacity if DOI or DOJ has agreed to represent that employee or pay for private representation of the employee;

(b) When:

(i) One of the following is a party to the proceeding or has an interest in the proceeding:

(A) DOI or any component of DOI;

(B) Any other Federal agency appearing before the Office of Hearings and Appeals;

(C) Any DOI employee acting in his or her official capacity;

(D) Any DOI employee acting in his or her individual capacity if DOI or DOJ has agreed to represent that employee or pay for private representation of the employee;

(E) The United States, when DOJ determines that DOI is likely to be affected by the proceeding; and

(ii) DOI deems the disclosure to be:

(A) Relevant and necessary to the proceeding; and

(B) Compatible with the purpose for which the records were compiled.

(5) To a congressional office in response to a written inquiry that an individual covered by the system, or the heir of such individual if the covered individual is deceased, has made to the office.

(6) To an official of another Federal agency to provide information needed in the performance of official duties related to reconciling or reconstructing data files or to enable that agency to respond to an inquiry by the individual to whom the record pertains.

(7) To the Department of the Treasury to effect payment to Federal, state, and local government agencies, nongovernmental organizations, and individuals, or to recover debts owed to the United States.

(8) To appropriate agencies, entities, and persons when:

(a) It is suspected or confirmed that the security or confidentiality of information in the system of records has been compromised; and

(b) The Department has determined that as a result of the suspected or confirmed compromise, there is a risk of harm to economic or property interest, identity theft or fraud, or harm to the security or integrity of this system or other systems or programs (whether maintained by the Department or another agency or entity) that rely upon the compromised information; and

(c) The disclosure is made to such agencies, entities, and persons who are reasonably necessary to assist in connection with the Department's efforts to respond to the suspected or confirmed compromise and prevent, minimize, or remedy such harm.

(9) To Federal, state, territorial, local, tribal, or foreign agencies that have requested information relevant or necessary to the hiring, firing, or retention of an employee or contractor, or the issuance of a security clearance, license, contract, grant, or other benefit, when the disclosure is compatible with the purpose for which the records were compiled.

(10) To representatives of the National Archives and Records Administration to conduct records management inspections under the authority of 44 U.S.C. 2904 and 2906.

(11) To state and local government and tribal organizations to provide information needed in response to court order and/or discovery purposes related to litigation, when the disclosure is compatible with the purpose for which the records were compiled.

(12) To an expert, consultant, or contractor (including employees of the contractor) of DOI that performs services requiring access to these records on DOI's behalf to carry out the purposes of the system.

(13) To the Office of Management and Budget during the coordination and clearance process in connection with legislative affairs as mandated by OMB Circular A-19.

(14) To the news media when the disclosure is compatible with the purpose for which the records were compiled.

DISCLOSURE TO CONSUMER REPORTING AGENCIES:

Disclosures pursuant to 5 U.S.C. 552a(b)(12). Pursuant to 5 U.S.C. 552a(b)(12), disclosures may be made to a consumer reporting agency as defined in the Fair Credit Reporting Act (15 U.S.C. 1681a(f)) or the Federal Claims Collection Act of 1996 (31 U.S.C. 3701(a)(3)).

POLICIES AND PRACTICES FOR STORING, RETRIEVING, ACCESSING, RETAINING, AND DISPOSING OF RECORDS IN THE SYSTEM:

STORAGE:

Records are maintained in manual files. The Forms DI-381 and DI-382 are maintained in paper form because of the need to have actual signatures. Electronic records where applicable will generally contain only ancillary data such as e-mail communications pertaining to the actual system of records, which is a paper system. Such ancillary electronic records are stored on magnetic media at the various computer processing centers. Manual file documents are stored in standard office filing equipment in locked rooms.

RETRIEVABILITY:

Records are indexed by Bureau assigned project numbers and individual or business name, as applicable.

SAFEGUARDS:

Uniform Relocation Assistance Program Records are maintained with safeguards meeting the requirements of 43 CFR 2.51 for manual and computerized records. Access to records is limited to authorized personnel whose official duties require such access.

(1) Physical Security: Paper records are maintained in locked file cabinets and/or in secured rooms in Federal government offices with appropriate security measures meeting Departmental guidelines. Electronic ancillary records are on secure servers with appropriate firewalls, passwords, and IT security complying with Departmental policies and procedures.

(2) Technical Security: Ancillary electronic records are maintained in conformity with Office of Management and Budget and Departmental guidelines reflecting the implementation of the Federal Information Security Management Act. Electronic data is protected through user identification, passwords, database permissions and software controls. These security measures establish different degrees of access for different types of users. An audit trail is maintained and reviewed periodically to identify unauthorized access.

(3) Administrative Security: All DOI and contractor employees with access to Interior Uniform Relocation Assistance Program Records are required to complete Privacy Act, Federal Records Act, and Security Awareness training prior to being given access to the system, and on an annual basis, thereafter.

RETENTION AND DISPOSAL:

Records are retained and disposed of in accordance with General Records Schedule 3, Item 1, and in accordance with specific Bureau record schedules, Bureau of Land Management Schedule 30, Item 1, Bureau of Reclamation Class Code LND-3.00, National Park Service Schedule L14, and U.S. Fish and Wildlife Service Schedule PROP-110.

SYSTEM MANAGER(S) AND ADDRESS:

(1) Director, Office of Acquisition and Property Management, Office of the Secretary, Department of the Interior, MS 2607 MIB, 1849 C Street, NW., Washington, DC 20240.

(2) Chief, Division of Lands, Realty and Cadastral Survey, Bureau of Land Management, 1620 L Street, NW., Suite 1000, Washington, DC 20036;

(3) Manager, Finance and Accounting Division, Bureau of Reclamation, Denver Federal Center, Building 67, Denver, CO 80225-0007;

(4) Chief, Land Resources Division, National Park Service, 1201 Eye Street NW., Washington, DC 20005; and

(5) Chief, Division of Realty, U.S. Fish and Wildlife Service, 4401 N. Fairfax Drive, Suite 622, Arlington, VA 22203.

NOTIFICATION PROCEDURE:

If you wish to determine if this system of records contains information about you, you must write to the appropriate bureau/office System Manager at the respective address listed above. Your request must be in writing and signed by you. To ensure proper handling of your request, you should include the words “PRIVACY ACT INQUIRY” at the top of the first page of your letter and on the envelope in which you mail the letter, in compliance with 43 CFR 2.60.

RECORD ACCESS PROCEDURES:

If you wish to obtain access to any records that the system may contain that are about you, you must write to the appropriate bureau/office System Manager at the address listed above. Your request must be in writing and signed by you, and meet the content requirements of 43 CFR 2.63.

CONTESTING RECORD PROCEDURES:

If you wish to request correction of a record maintained about you, you must write to the appropriate bureau/office System Manager at the address listed above. Your request must be in writing and signed by you, and meet the content requirements of 43 CFR 2.71.

RECORD SOURCE CATEGORIES:

Records in the system contain information submitted by claimants and applicants displaced as a result of Federal real estate acquisition and supporting documentation for the purpose of determining the amount of their relocation benefit.

EXEMPTIONS CLAIMED FOR THE SYSTEM:

None.

[FR Doc. E8-22425 Filed 9-23-08; 8:45 am]

BILLING CODE 4310-RF-P